DEPARTMENT OF TRANSPORTATION

Federal Aviation Administration

14 CFR Part 71

[Docket No. FAA-2025-0609; Airspace Docket No. 25-AEA-7]

RIN 2120-AA66

Amendment of Class E Airspace; Chambersburg, PA

AGENCY: Federal Aviation Administration (FAA), DOT.

ACTION: Final rule.

SUMMARY: This action amends the Class E airspace extending upward from 700 feet above the surface designated for Chambersburg, PA, by updating the reference to the St. Thomas Very High Frequency Omnidirectional Range Station and Tactical Air Navigation System (VORTAC) to show it as the St. Thomas Tactical Air Navigation System (TACAN). This action also updates the airport coordinates and airport name for Franklin County Regional Airport. This action supports the safety and management of instrument flight rule (IFR) operations in the area.

DATES: Effective 0901 UTC, October 2, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year. An electronic copy of this document may also be downloaded from the Office of the Federal Register's website at www.federalregister.gov.

FAA Order JO 7400.11J, Airspace Designations, and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Marc Ellerbee, Operations Support Group, Eastern Service Center, Federal Aviation Administration, 1701 Columbia Avenue, College Park, GA 30337; Telephone: (404) 305-5589.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it amends Class E airspace in Chambersburg, PA.

History

The FAA published an NPRM for Docket No. FAA-2025-0609 in the Federal Register (90 FR 16101; April 17, 2025), proposing to amend Class E airspace extending upward from 700 feet above the surface at Franklin County Regional Airport, Chambersburg, PA. Interested parties were invited to participate in this rulemaking effort by submitting written comments on the proposal to the FAA. No comments were received.

Incorporation by Reference

Class E airspace designations are published in paragraph 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 by amending the Class E airspace extending upward from 700 feet above the surface designated for Chambersburg, PA. Controlled airspace is necessary for the safety and management of IFR operations in the area. The VOR portion of the St. Thomas VORTAC was decommissioned on November 30, 2023, and only the TACAN remains as a functional part of the NAVAID. This rule changes the associated references in the airspace legal description from St. Thomas VORTAC to St. Thomas TACAN. This action also amends the airspace by updating the airport coordinates and the airport name in the airspace legal description to reflect the current information.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6005 Class E Airspace Areas Extending Upward From 700 Feet or More Above the Surface of the Earth.

* * * * *

AEA PA E5 Chambersburg, PA [Amended]

Franklin County Regional Airport, PA

(Lat. 39°58′23″ N, long. 77°38′36″ W)

St. Thomas TACAN

(Lat. 39°56′00″ N, long. 77°57′03″ W)

That airspace extending upward from 700 feet above the surface within a 6.5-mile radius of Franklin County Regional Airport and within a 7-mile radius of Franklin County Regional Airport extending clockwise from a 039° bearing from the airport to a 061° bearing from the airport and within a 13.1-mile radius of Franklin County Regional Airport extending clockwise from a 061° bearing from the airport to a 135° bearing from the airport and within a 7-mile radius of Franklin County Regional Airport extending clockwise from a 135° bearing from the airport to a 174° bearing from the airport and within 3.5 miles each side of the St. Thomas TACAN 082° radial extending from the TACAN to 25.2 miles east of the TACAN.

* * * * *

Issued in College Park, Georgia, on June 10, 2025.
Patrick Young,
Manager, Airspace & Procedures Team North, Eastern Service Center, Air Traffic Organization.

[FR Doc. 2025-10856 Filed 6-13-25; 8:45 am]

BILLING CODE 4910-13-P